DEPARTMENT OF HOMELAND SECURITY

Submission for OMB Emergency Review; Reinstatement With Change for Previously Approved Information Collection Request (Product and Service Information Site)

AGENCY: Office of the Under Secretary for Management, Department of Homeland Security.

ACTION: Notice.

SUMMARY: The Department of Homeland Security (DHS), has resubmitted OMB 1600-0001 information collection request (ICR) (Product and Service Information Site) for reinstatement with change for a previously approved collection, utilizing emergency review procedures, to the Office of Management and Budget (OMB) for review and clearance in accordance with the Paperwork Reduction Act of 1995 (Pub. L. 104-13, 44 U.S.C. chapter 35) as amended by the Clinger-Cohen Act (Pub. L. 104-106). OMB approval has been requested by December 22, 2003.

ADDRESSES: Comments and questions about the ICR listed below should be forwarded to the Office of Information and Regulatory Affairs, Attn: OMB Desk Officer for Homeland Security, Office of Management and Budget, Room 10235, Washington, DC 20503; telephone (202) 395-7316. The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

FOR FURTHER INFORMATION CONTACT: A copy of this ICR, with applicable supporting documentation, may be obtained by calling Yvonne Pollard, Program Analyst and Paperwork Reduction Act Contact, Office of the Chief Information Officer, Department of Homeland Security, Washington, DC 20528; telephone (202) 692-4221.

SUPPLEMENTARY INFORMATION:

Analysis

Agency: Department of Homeland Security, Under Secretary of Management, Office of the Chief Information Officer.

Title: Product and Service Information Site.

OMB Number: 1600-0001.

Frequency: On occasion.

Affected Public: Individuals or households; businesses or other for-profit; not-for-profit institutions; farms, State, local or tribal government.

Estimated Number of Respondents: 20,000.

Estimated Time Per Respondent: 30 minutes for startup; 30 minutes for maintaining.

Total Burden Hours: 20,000.

Total Burden Cost: (capital/startup): $25.00 per respondent; $500,000 annually.

Total Burden Cost: (operating/maintaining): $25.00 per respondent, $500,000 annually.

Description: The Product and Service Information site is a supplement of the Central Contractor Registration database that will provide a uniform voluntary way for companies to provide descriptions of their product-and-service ideas to DHS for enhancing homeland security.

Dated: December 16, 2003.
Steve Cooper,
Chief Information Officer.

[FR Doc. 03-31438 Filed 12-17-03; 1:28 pm]

BILLING CODE 4410-10-P